DEPARTMENT OF TRANSPORTATION

Federal Aviation Administration

Research, Engineering and Development Advisory Committee; Meeting

AGENCY: Federal Aviation Administration (FAA), DOT.

ACTION: Notice of Research, Engineering & Development Advisory Committee (REDAC) meeting.

SUMMARY: The FAA is issuing this notice to advise the public of a meeting of the REDAC.

DATES: The meeting will be held on April 11, 2019, starting at 9:00 a.m. Eastern Standard Time. Arrange oral presentations by March 28, 2019.

ADDRESSES: The meeting will be held at the Federal Aviation Administration, 800 Independence Avenue SW, Washington, DC 20591.

FOR FURTHER INFORMATION CONTACT: Chinita A. Roundtree-Coleman at (609) 485-7149 or email at chinita.roundtree-coleman@faa.gov.

SUPPLEMENTARY INFORMATION: Pursuant to section 10(a)(2) of the Federal Advisory Committee Act (Pub. L. 92-463, 5 U.S.C. App. 2), notice is giving notice of the REDAC meeting on April 11, 2019.

The Draft Agenda includes:

1. Opening of Meeting/Introduction of REDAC Members

2. Official Statement of Designated Federal Official

3. Chairman's Report

4. FAA Report

5. Reports from Subcommittees

6. Committee Discussions—Recommendations

7. REDAC Chairman Closing Comments & Adjourn

Attendance is open to the interested public but registration is required and space is limited to the space available. Please confirm your attendance with the person listed in the FOR FURTHER INFORMATION CONTACT section no later than March 28, 2019. Please provide the following information: Full legal name, country of citizenship, and name of your industry association, or applicable affiliation. For Foreign National attendees, please also provide your country of citizenship, date of birth, and passport or diplomatic identification number with expiration date.

With the approval of the REDAC Chairman, members of the public may present oral statements at the meeting. There will be no more than 45 minutes allotted on the agenda for oral statements. Oral statements are limited to five minutes per speaker. Persons wishing to present statements or obtain information should contact the person listed in the FOR FURTHER INFORMATION CONTACT section by March 28, 2019. Members of the public may present a written statement to the committee at any time by providing 15 copies to the Designated Federal Officer, or by bringing the copies to the meeting.

If you are in need of assistance or require a reasonable accommodation for this meeting, please contact the person listed under the heading FOR FURTHER INFORMATION CONTACT at least 10 calendar days before the meeting.

Issued in Washington, DC, on March 5, 2019.
Chinita A. Roundtree-Coleman,
IT Specialist, Research and Development Management Division, ANG-E41, Federal Aviation Administration.

[FR Doc. 2019-04369 Filed 3-8-19; 8:45 am]

BILLING CODE 4910-13-P